DEPARTMENT OF THE INTERIOR

Bureau of Land Management

[AZ-956-07-1420-BJ]

Notice of Filing of Plats of Survey; Arizona

AGENCY: Bureau of Land Management, Interior.

ACTION: Notice.

SUMMARY: The plats of survey, supplemental and amended protraction diagram described below are scheduled to be officially filed in the Arizona State Office, Bureau of Land Management, Phoenix, Arizona, December 27, 2006.

SUPPLEMENTARY INFORMATION:

The Gila and Salt River Meridian, Arizona

The plat representing the dependent resurvey of the south, east, west, and north boundaries, and the subdivision lines, and the survey of the subdivision of all sections, Township 22 North, Range 15 East, accepted May 26, 2006, and officially filed June 1, 2006, for Group 946 Arizona.

This plat was prepared at the request of the Bureau of Indian Affairs, Navajo Regional Office.

The plat representing the dependent resurvey of a portion of the subdivisional lines and the subdivision of section 4, Township 22 North, Range 21 East, accepted June 26, 2006, and officially filed June 30, 2006 for Group 939 Arizona.

This plat was prepared at the request of the Bureau of Indian Affairs, Navajo Regional Office.

The plat representing the dependent resurvey of the subdivisional lines, Township 22 North, Range 27 East, accepted April 6, 2006, and officially filed April 14, 2006 for Group 947 Arizona.

This plat was prepared at the request of the Bureau of Indian Affairs, Navajo Regional Office.

The plat representing the dependent resurvey of the subdivisional lines, Township 22 North, Range 28 East, accepted October 2, 2006, and officially filed October 6, 2006 for Group 956 Arizona.

This plat was prepared at the request of the Bureau of Indian Affairs, Navajo Regional Office.

The plat (8 sheets) representing the dependent resurvey of a portion of The Seventh Auxiliary Guide Meridian East (west boundary), the south and east boundaries, a portion of the subdivisional lines, the subdivision of certain sections, and metes-and-bounds surveys, Township 22 North, Range 29 East, accepted October 2, 2006, and officially filed October 6, 2006 for Group 921 Arizona.

This plat was prepared at the request of the Bureau of Indian Affairs, Navajo Regional Office.

The plat (7 sheets) representing the dependent resurvey of the Arizona-New Mexico State Line from mile post 115 to the witness corner to mile post 120, the west boundary and the subdivisional lines, and the subdivision of certain sections and metes- and bounds surveys, Township 22 North, Range 31 East, accepted June 12, 2006 and officially filed June 16, 2006 for Group 899 Arizona.

This plat was prepared at the request of the Bureau of Indian Affairs, Navajo Regional Office.

The plat representing the dependent resurvey of the south and north boundaries, and the subdivisional lines, and the subdivision of certain sections, Township 23 North, Range 20 East, accepted June 26, 2006, and officially filed June 30, 2006, for Group 945 Arizona.

This plat was prepared at the request of the Bureau of Indian Affairs, Navajo Regional Office.

The plat representing the survey of a portion of the Seventh Standard Parallel North (south boundary), Township 29 North, Range 23 East, and the west boundary and the subdivisional lines, Township 28 North, Range 24 East, accepted June 26, 2006, and officially filed June 30, 2006 for Group 955 Arizona.

This plat was prepared at the request of the Bureau of Indian Affairs, Navajo Regional Office.

The plat representing the dependent resurvey of a portion of the subdivisional lines, a portion of Homestead Entry Survey No. 401, a portion of tract 37, the subdivision of section 23, the survey of tract 39 and a metes-and-bounds survey in section 23, Township 30 North, Range 2 East, accepted April 6, 2006, and officially filed April 14, 2006 for Group 968 Arizona.

This plat was prepared at the request of the Bureau of Land Management.

The plat representing the survey of The Ninth Standard Parallel North (south boundary), the east, west and north boundaries, and the subdivisional lines, Township 37 North, Range 14 East, accepted May 1, 2006, and officially filed May 10, 2006 for Group 949 Arizona.

This plat was prepared at the request of the Bureau of Indian Affairs, Navajo Regional Office.

The plat representing the survey of a portion of The Tenth Standard Parallel North (south boundary), Township 41 North, Range 9 East and the dependent resurvey of a portion of the subdivisional lines, the survey of a portion of The Second Guide Meridian East (west boundary), the south and east boundaries and a portion of the subdivisional lines, Township 40 North, Range 9 East, accepted June 7, 2006, and officially filed June 14, 2006 for Group 950 Arizona.

This plat was prepared at the request of the Bureau of Indian Affairs, Navajo Regional Office.

The plat representing the dependent resurvey of a portion of the subdivisional lines and the metes-and-bounds survey of The Warm Springs Wilderness Area Boundary, Township 16 North, Range 19 West, accepted November 3, 2006, and officially filed November 9, 2006, for Group 933 Arizona.

This plat was prepared at the request of the Bureau of Land Management.

The plat representing the dependent resurvey of a portion of The Fourth Standard Parallel North (north boundary), Township 16½ North, Range 18 West, accepted November 3, 2006, and officially filed November 9, 2006 for Group 933 Arizona.

This plat was prepared at the request of the Bureau of Land Management.

The plat (2 sheets) representing the dependent resurvey of a portion of The Fourth Standard Parallel North (north boundary), a portion of the south and east boundaries, a portion of the subdivisional lines, and the metes-and-bounds survey of The Warm Springs Wilderness Area Boundary, Township 16½ North, Range 19 West, accepted November 3, 2006 and officially filed November 9, 2006 for Group 933 Arizona.

This plat was prepared at the request of the Bureau of Land Management.

The plat (2 sheets) representing the dependent resurvey of portions of the west and north boundaries, a portion of the subdivisional lines, and Mineral Survey No. 904, the subdivision of sections 3 and 4 and the metes-and-bounds survey of The Wabayuma Peak Wilderness Area Boundary, Township 17 North, Range 16 West, accepted November 8, 2006, and officially filed November 16, 2006 for Group 981 Arizona.

This plat was prepared at the request of the Bureau of Land Management.

The plat (5 sheets) representing the dependent resurvey of portions of the south, east, and north boundaries, and a portion of the subdivisional lines, and the metes-and-bounds survey of The Wabayuma Peak Wilderness Area Boundary, Township 18 North, Range 17 West, accepted November 8, 2006, and officially filed November 16, 2006 for Group 982 Arizona.

This plat was prepared at the request of the Bureau of Land Management.

The plat (2 sheets) representing the dependent resurvey of a portion of the subdivisional lines, and the metes-and-bounds survey of The Warm Springs Wilderness Area Boundary, Township 19 North, Range 18 West, accepted April 6, 2006 and officially filed April 14, 2006 for Group 934 Arizona.

This plat was prepared at the request of the Bureau of Land Management.

The plat (3 sheets) representing the dependent resurvey of a portion of The Fifth Guide Meridian West (east boundary), a portion of the south boundary, a portion of the subdivisional lines, and the metes-and-bounds survey of The Warm Springs Wilderness Area Boundary through sections 20, 22, 23, 26 and 35, Township 19 North, Range 19 West, accepted June 5, 2006 and officially filed June 9, 2006 for Group 928 Arizona.

This plat was prepared at the request of the Bureau of Land Management.

The plat representing the dependent resurvey of a portion of The Second Guide Meridian West (east boundary), and a portion of the subdivisional lines, and the metes-and-bounds survey of a portion of The Mount Logan Wilderness Area Boundary, Township 33 North, Range 9 West, accepted May 18, 2006 and officially filed May 26, 2006 for Group 833 Arizona.

This plat was prepared at the request of the Bureau of Land Management.

The plat representing the dependent resurvey of a portion of the subdivisional lines, an informative traverse in section 23, Township 33 North, Range 9 West, accepted May 25, 2006 and officially filed May 31, 2006 for Group 948 Arizona.

This plat was prepared at the request of the Bureau of Land Management.

The plat (5 sheets) representing the dependent resurvey of a portion of the south boundary, and a portion of the subdivisional lines, the subdivision of section 19 and the metes-and-bounds survey of The Mount Logan Wilderness Area Boundary, Township 34 North, Range 8 West, accepted May 18, 2006 and officially filed May 26, 2006 for Group 833 Arizona.

This plat was prepared at the request of the Bureau of Land Management.

The plat (6 sheets) representing the dependent resurvey of a portion of The Second Guide Meridian West (east boundary), a portion of the south boundary and a portion of the subdivisional lines, and the metes-and-bounds survey of The Mount Logan Wilderness Area Boundary, Township 34 North, Range 9 West, accepted May 18, 2006 and officially filed May 26, 2006 for Group 833 Arizona.

This plat was prepared at the request of the Bureau of Land Management.

The plat representing the dependent resurvey of a portion of The Tenth Standard Parallel North (north boundary), and the west boundary and the survey of a portion of the subdivisional lines, Township 40 North, Range 2 West, accepted March 27, 2006 and officially filed April 7, 2006 for Group 937 Arizona.

This plat was prepared at the request of the Bureau of Indian Affairs, Western Regional Office.

The plat representing the dependent resurvey of a portion of The Tenth Standard Parallel North (north boundary), and the survey of a portion of the subdivisional lines, Township 40 North, Range 3 West, accepted March 27, 2006 and officially filed April 7, 2006 for Group 940 Arizona.

This plat was prepared at the request of the Bureau of Indian Affairs, Western Regional Office.

The plat representing the dependent resurvey of a portion of the subdivisional lines and the survey of a portion of the subdivisional lines, Township 40 North, Range 5 West, accepted July 5, 2006 and officially filed July 7, 2006 for Group 964 Arizona.

This plat was prepared at the request of the Bureau of Indian Affairs, Western Regional Office.

The plat representing the dependent resurvey of a portion of The Tenth Standard Parallel North (north boundary), a portion of the subdivisional lines, the subdivision of sections 11 and 14 and a metes-and-bounds survey of a portion of The Paiute Wilderness Area Boundary, Township 40 North, Range 15 West, accepted July 10, 2006 and officially filed July 14, 2006 for Group 962 Arizona.

This plat was prepared at the request of the Bureau of Land Management.

The plat representing the dependent resurvey of the east boundary and the survey of the north boundary and the subdivisional lines, Township 41 North, Range 3 West, accepted May 9, 2006 and officially filed May 18, 2006 for Group 959 Arizona.

This plat was prepared at the request of the Bureau of Indian Affairs, Western Regional Office.

The plat representing the dependent resurvey of a portion of The Tenth Standard Parallel North (south boundary), and a portion of the subdivisional lines, and the survey of a portion of the north boundary and a portion of the subdivisional lines, Township 41 North, Range 5 West, accepted May 9, 2006 and officially filed May 18, 2006 for Group 960 Arizona.

This plat was prepared at the request of the Bureau of Indian Affairs, Western Regional Office.

The plat representing the dependent resurvey of a portion of the west boundary identical with a portion of The Paiute Wilderness Area Boundary, Township 41 North, Range 14 West, accepted July 10, 2006 and officially filed July 14, 2006 for Group 963 Arizona.

This plat was prepared at the request of the Bureau of Land Management.

The plat representing the dependent resurvey of a portion of The Arizona and Utah State Boundary (north boundary), from the 70 mile post to the 76.453 mile post and the survey of the east and west boundaries and the subdivisional lines, Fractional Township 42 North, Range 4 West, accepted March 27, 2006 and officially filed April 7, 2006 for Group 938 Arizona.

This plat was prepared at the request of the Bureau of Indian Affairs, Western Regional Office.

The plat representing the dependent resurvey of a portion of The Arizona and Utah State Boundary (north boundary), from the 76.453 mile post to the 82 mile post and the survey of the subdivisional lines, Fractional Township 42 North, Range 3 West, accepted May 10, 2006 and officially filed May 18, 2006 for Group 965 Arizona.

This plat was prepared at the request of the Bureau of Indian Affairs, Western Regional Office.

The plat representing the dependent resurvey of a portion of The Arizona and Utah State Boundary (north boundary), from the 67 mile post to the 70 mile post and a portion of the subdivisional lines and the survey of a portion of the subdivisional lines, Fractional Township 42 North, Range 5 West, accepted May 10, 2006 and officially filed May 18, 2006 for Group 961 Arizona.

This plat was prepared at the request of the Bureau of Indian Affairs, Western Regional Office.

If a protest against a survey, supplemental and or amended protraction diagram as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427.

Dated: November 13, 2006.
Stephen K. Hansen,
Chief Cadastral Surveyor.

[FR Doc. E6-19993 Filed 11-24-06; 8:45 am]

BILLING CODE 4310-32-P